ENVIRONMENTAL PROTECTION AGENCY

[FRL-7092-6]

Notice of Proposed Administrative Order on Consent for Remedial Investigation/Feasibility Study Pursuant to the Comprehensive Environmental Response, Compensation, and Liability Act

AGENCY: Environmental Protection Agency.

ACTION: Notice; request for public comment.

SUMMARY: In accordance with section 122 (h) of the Comprehensive Environmental Response, Compensation, and Liability Act, as amended (“CERCLA”), 42 U.S.C. 9622(i), notice is hereby given of a proposed administrative order on consent concerning the Molycorp, Inc. Site, with potentially responsible party Molycorp, Inc.

The order requires the settling party to prepare and perform a remedial investigation and feasibility study (RI/FS) for the Molycorp, Inc. Site in Taos County, New Mexico. Molycorp must also reimburse the Environmental Protection Agency (EPA or the Agency), for all past response costs and all response costs incurred in connection with the RI/FS, subject to the reservations outlined in the order.

For thirty (30) days following the date of publication of this notice, the Agency will receive written comments relating to the cost recovery component of the order. The Agency will consider all comments received and may modify or withdraw its consent to the cost recovery component of the order if comments received disclose facts or considerations which indicate that the cost recovery component of the order is inappropriate, improper, or inadequate. The Agency's response to any comments received will be available for public inspection at 1445 Ross Avenue, 7th Floor, Dallas, Texas 75202-2733.

DATES: Comments must be submitted on or before November 28, 2001.

ADDRESSES: The proposed order and additional background information relating to the order are available for public inspection at 1445 Ross Avenue, 7th Floor, Dallas, Texas 75202-2733. A copy of the proposed order may be obtained from Mark Purcell, Remedial Project Manager, 1445 Ross Avenue, 6SF-LP, Dallas, Texas 75202-2733 or by calling (214) 665-6707. Comments should reference the Molycorp, Inc. Superfund Site, Taos County, New Mexico, and EPA Docket Number 06-07-01, and should be addressed to Mark Purcell at the address listed above.

FOR FURTHER INFORMATION CONTACT: Michael Boydston, Assistant Regional Counsel, US Environmental Protection Agency, 1445 Ross Avenue, 6 RC-SF, Dallas, Texas 75202-2733 or call (214) 665-8063.

Dated: October 17, 2001.
Lawrence E. Starfield,
Acting Regional Administrator, Region 6.

[FR Doc. 01-27112 Filed 10-26-01; 8:45 am]

BILLING CODE 6560-50-P